DEPARTMENT OF COMMERCE

National Oceanic and Atmospheric Administration

[I.D. 122303K]

Marine Mammals; Photography Permit File No. 1061-1738

AGENCY: National Marine Fisheries Service (NMFS), National Oceanic and Atmospheric Administration (NOAA), Commerce.

ACTION: Receipt of application.

SUMMARY: Notice is hereby given that Joanne Lunt, Wag TV, 2d Leroy House, 436 Essex Road, London N1 3QP, England [Principal Investigator: Joanne Lunt] has applied in due form for a permit to take Northern elephant seals (Mirounga angustirostris) for purposes of commercial/educational photography.

DATES: Written or telefaxed comments must be received on or before February 5, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Jill Lewandowski or Jennifer Jefferies (301)713-2289.

SUPPLEMENTARY INFORMATION: The subject permit is requested under the authority of section 104(c)(6) of the Marine Mammal Protection Act of 1972, as amended (16 U.S.C. 1361 et seq.), and the Regulations Governing the Taking and Importing of Marine Mammals (50 CFR part 216). Section 104(c)(6) of the MMPA provides for photography for educational or commercial purposes involving marine mammals in the wild not listed as endangered or threatened. NMFS is currently working on proposed regulations to implement this provision. However, in the meantime, NMFS has received and is processing this request as a “pilot” application for Level B Harassment of non-listed marine mammals for photographic purposes.

The applicant specifically proposes to take by harassment up to 200 northern elephant seals during land-based filming activities. The purpose of the proposed project is to collect footage of mating behavior and also document permitted scientists conducting research on northern elephant seals. The footage will be used to produce a documentary on the evolution of sexual behavior that will be broadcast on Discovery Channel US and Channel 4 UK. Filming activities will take place in Point Reyes or Ano Nuevo, California. The Permit would be valid 1 year after the date of issuance with filming currently scheduled to take place during February 2004.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile to (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: December 30, 2003.
Tammy C. Adams,
Acting Chief, Permits, Conservation and Education Division, Office of Protected Resources, National Marine Fisheries Service.

[FR Doc. 04-230 Filed 1-5-04; 8:45 am]

BILLING CODE 3510-22-S